DEPARTMENT OF HOMELAND SECURITY

Coast Guard

33 CFR Part 100

[Docket No. USCG-2021-0255]

Special Local Regulations; Great Western Tube Float, Parker, AZ

AGENCY: Coast Guard, DHS.

ACTION: Notice of enforcement of regulation.

SUMMARY: The Coast Guard will enforce the special local regulation for the Great Western Tube Float on June 12, 2021. These special local regulations are necessary to provide for the safety of the participants, crew, spectators, sponsor vessels, and general users of the waterway. Our regulation for marine events within the Eleventh Coast Guard District identifies the regulated area for this event in Parker, AZ. During the enforcement period, persons and vessels are prohibited from anchoring, blocking, loitering, or impeding within this regulated area unless authorized by the Captain of the Port, or his designated representative.

DATES: The regulations in 33 CFR 100.1102 Table 1, Item 9 will be enforced from 7 a.m. to 6 p.m. on June 12, 2021.

FOR FURTHER INFORMATION CONTACT: If you have questions about this notice of enforcement, call or email Lieutenant John Santorum, Waterways Management, U.S. Coast Guard Sector San Diego, CA; telephone 619-278-7656, email MarineEventsSD@uscg.mil.

SUPPLEMENTARY INFORMATION: The Coast Guard will enforce the special local regulations in 33 CFR 100.1102 Table 1, Item 9 of that section for the Great Western Tube Float in Parker, AZ from 7 a.m. to 6 p.m. on June 12, 2021. This enforcement action is being taken to provide for the safety of life on navigable waterways during the event. Our regulation for marine events within the Eleventh Coast Guard District, § 100.1102, specifies the location of the regulated area for the Great Western Tube Float which encompasses the navigable waters of the Colorado River from Buckskin Mountain State Park to La Paz County Park. Under the provisions of § 100.1102, persons and vessels are prohibited from anchoring, blocking, loitering, or impeding within this regulated area, unless authorized by the Captain of the Port, or his designated representative. The Coast Guard may be assisted by other Federal, State, or local law enforcement agencies in enforcing this regulation.

In addition to this notice of enforcement in the Federal Register, the Coast Guard plans to provide notification of this enforcement period via the Local Notice to Mariners and local advertising by the event sponsor.

If the Captain of the Port Sector San Diego or his designated representative determines that the regulated area need not be enforced for the full duration stated on this document, he or she may use a Broadcast Notice to Mariners or other communications coordinated with the event sponsor to grant general permission to enter the regulated area.

Dated: May 14, 2021.
T.J. Barelli,
Captain, U.S. Coast Guard, Captain of the Port San Diego.

[FR Doc. 2021-10738 Filed 5-20-21; 8:45 am]

BILLING CODE 9110-04-P